DEPARTMENT OF LABOR

5 CFR Chapter XLII

20 CFR Chapters IV, V, VI, VII, and IX

29 CFR Subtitle A and Chapters II, IV, V, XVII, and XXV

30 CFR Chapter I

41 CFR Chapters 50, 60, and 61

48 CFR Chapter 29

Reducing Regulatory Burden; Retrospective Review Under E.O. 13563

AGENCY: Office of the Secretary, Labor.

ACTION: Request for Information; Extension of Comment Period.

SUMMARY: On March 21, 2011, the Department of Labor (DOL or the Department) published a Request for Information (RFI) in response to the President's Executive Order 13563 on improving regulation and regulatory review. The RFI invited public comment on how the Department can improve any of its significant regulations by modifying, streamlining, expanding, or repealing them. This extension gives commenters an additional 8 days to comment on the RFI.

DATES: The comment period for the Request for Information published on March 21, 2011, at 76 FR 15224, is extended. Comments must be received on or before April 8, 2011.

ADDRESSES: You may submit comments through the Department's Regulations Portal at http://www.dol.gov/regulations/regreview.htm.

All comments will be available for public inspection at http://www.dol.gov/regulations/regreview.htm.

FOR FURTHER INFORMATION CONTACT: E. Christi Cunningham, Associate Assistant Secretary for Regulatory Affairs, U.S. Department of Labor, 200 Constitution Avenue, NW., Room S-2312, Washington, DC 20210, cunningham.christi@dol.gov, (202) 693-5959 (this is not a toll-free number). Individuals with hearing impairments may call 1-800-877-8339 (TTY/TDD).

SUPPLEMENTARY INFORMATION: On January 18, 2011, President Obama issued Executive Order 13563, “Improving Regulation and Regulatory Review.” The Order explains the Administration's goal of creating a regulatory system that protects “public health, welfare, safety, and our environment while promoting economic growth, innovation, competitiveness, and job creation” while using “the best, most innovative, and least burdensome tools to achieve regulatory ends.” The Executive Order requires agencies to develop and submit a preliminary plan within 120 days from the January 18 issuance date that explains how each agency will review existing significant regulations to identify whether any regulations may be made more effective or less burdensome.

Request for Comments

As a first step in developing its regulatory review plan, the Department is requesting public comment on how the Department can increase the effectiveness of its significant regulations while minimizing the burden on regulated entities. The Department recognizes the knowledge of programs and their implementing regulations that exists within our regulated communities, academia and the public, and therefore is requesting public comment on how the Department can foster, promote, and develop the welfare of the wage earners, job seekers, and retirees of the United States; improve working conditions; advance opportunities for profitable employment; and assure work-related benefits and rights in ways that are more effective and less burdensome.

This request for public input will inform development of the Department's plan to review its existing significant regulations. To facilitate receipt of the information, the Department has created an Internet portal specifically designed to capture your input and suggestions, http://www.dol.gov/regulations/regreview.htm. The portal contains a series of questions designed to gather information on how DOL can best meet the requirements of the Executive Order. The portal will be open to receive comments from March 16, 2011 through April 8, 2011.

Questions for the Public

The Department intends the questions on the portal to represent a starting point for discussion of the criteria that can be used to prioritize its regulatory review. The questions are meant to initiate public dialogue, and are not intended to restrict the issues that may be raised or addressed. The questions were developed with the intent to probe a range of areas, including tools that can be used to prioritize regulations for review; strategies that can be used to increase flexibility of regulations; and ensuring scientific integrity of data. Please note that these questions do not pertain to DOL rulemakings currently open for public comment. To comment on an open rulemaking, please visit regulations.gov and submit comments by the deadline indicated in that rulemaking.

When addressing these questions, the Department requests that commenters identify with specificity the regulation or reporting requirement at issue, providing legal citation(s) where available. The Department also requests that submitters provide, in as much detail as possible, an explanation of why a regulation or reporting requirement should be modified, streamlined, expanded, or repealed, as well as specific suggestions of ways the Department can better achieve its regulatory objectives. Whenever possible, please provide empirical evidence and data to support your response.

The Department will consider public comment as we develop this plan to periodically review the Department's significant rules. The Department is issuing this request solely to seek useful information as it develops its review plan. While responses to this request do not bind the Department to any further actions related to the response, all submissions will be made available to the public on http://www.dol.gov/regulations/regreview.htm.

Authority: E.O. 13653, 76 FR 3821, Jan. 21, 2011; E.O. 12866, 58 FR 51735, Oct. 4, 1993.

William E. Spriggs,
Assistant Secretary for Policy.

[FR Doc. 2011-7745 Filed 3-31-11; 8:45 am]

BILLING CODE P